NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 6, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Permit Application No. 2007-024.

Daniel P. Costa, Department of Biology, University of California, Santa Cruz, Santa Cruz, CA 95064.

Activity for Which Permit Is Requested

Take, Import into the U.S, and Enter an Antarctic Specially Protected Area. The applicant proposes to take up to 35 Crabeater, 10 each of Leopard and Weddell seals and 5 Ross seals per year over a 3-year period. The animals will be captured, tagged, dye marked, anesthetized, blood sampled, weighed, morphometric measurements taken, muscle and/or blubber biopsy taken, whisker taken, and instrumented with SMRU CTD SRDLs and VHR's tags. Samples collected will be used to study the foraging behavior and habitat utilization of pelagic predators. Animals will be taken from the pack ice, however if this proves to be logically infeasible, then the applicant proposes to enter the Antarctic Specially Protected Areas: Dion Islands (ASPA #107); Lagotellerie Islands (ASPA #115); Avian Islands (ASPA #117) and Rothera Point (ASPA #129) to collect the required samples.

Location

Marguerite Bay, West Antarctic Peninsula, Dion Islands (ASPA #107), Lagotellerie Islands (ASPA #115), Avian Islands (ASPA #117) and Rothera Point (ASPA #129).

Dates

April 1, 2007 to August 31, 2010.

Nadene G. Kennedy,
Permit Officer, Office of Polar Programs.

[FR Doc. E7-3898 Filed 3-6-07; 8:45 am]

BILLING CODE 7555-01-P